EXPORT-IMPORT BANK

[Public Notice: 2024-6123]

Agency Information Collection Activities: Submission to the Office of Management and Budget for Review and Approval; Comment Request; EIB 18-03, Itemized Statement of Payments—Local Costs for EXIM Credit Guarantee Facility

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments should be received on or before February 10, 2025 to be assured of consideration.

ADDRESSES: Comments may be submitted electronically on www.regulations.gov (EIB 18-02), by email to donna.schneider@exim.gov, or by mail to Donna Schneider, Export-Import Bank of the United States, 811 Vermont Ave. NW, Washington, DC 20571. The form can be viewed at: https://img.exim.gov/s3fs-public/pub/pending/EIB18-03_itemized_statement_of_payments-local_costs_for_exim_cgf_2025.xlsx.

FOR FURTHER INFORMATION CONTACT: To request additional information, please contact Donna Schneider, 202-565-3612.

SUPPLEMENTARY INFORMATION: This form is to be completed by EXIM borrowers as required under EXIM Credit Guarantee Facility (CGF) transactions in conjunction with a borrower's request for disbursement for local cost goods and services. It is used to summarize disbursement documents submitted with a borrower's request and to calculate the requested financing amount. It will enable EXIM lenders to identify the specific details of the amount of disbursement requested for approval to ensure that the financing request is complete and in compliance with EXIM's disbursement requirements.

Titles and Form Number: EIB 18-03 Itemized Statement of Payments—Local Costs for EXIM Credit Guarantee Facility.

OMB Number: 3048-0055.

Type of Review: Regular.

Need and Use: The information collected will assist in determining compliance of disbursement requests for local cost goods and services submitted to EXIM lenders under CGF transactions.

Affected Public: This form affects EXIM borrowers involved in financing local cost goods and services under CGF transactions.

Annual Number of Respondents: 12.

Estimated Time per Respondent: 30 minutes.

Annual Burden Hours: 6 hours.

Frequency of Reporting or Use: As needed.

This form is submitted by the borrower to the CGF lender for review. The lender reports information regarding the disbursement electronically to EXIM using OMB Number 3048-0046 CGF (EIB 12-02) Disbursement Approval Request Report.

Dated: December 4, 2024.
Andrew Smith,
Records Officer.

[FR Doc. 2024-28906 Filed 12-9-24; 8:45 am]

BILLING CODE 6690-01-P